DEPARTMENT OF HEALTH AND HUMAN SERVICES

Administration for Children and Families

Submission for OMB Review; Multistate Financial Institution Data Match With Federally Assisted State Transmitted Levy (OMB No.: 0970-0169)

AGENCY: Office of Child Support Services Office, Administration for Children and Families, Department of Health and Human Services.

ACTION: Request for public comments.

SUMMARY: The Office of Child Support Services (OCSE), Administration for Children and Families (ACF), is requesting the federal Office of Management and Budget (OMB) to extend approval of the Multistate Financial Institution (MSFIDM) Data Match with Federally Assisted State Transmitted (FAST) Levy, without changes, for an additional three years. The current OMB approval expires January 31, 2024.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: State child support agencies are statutorily required to enter into data matching agreements with financial institutions doing business in their state to locate obligors' accounts. OCSE operates the MSFIDM program through the Federal Parent Locator Service (FPLS) and facilitates the required data match between state child support agencies and multistate financial institutions (MSFIs). State child support agencies use the data match outcomes to fulfill a statutory requirement to seize an obligor's assets to satisfy past due child support payments.

OCSE also operates FAST Levy, which is an automated application within the FPLS to exchange electronic lien/levy information securely and efficiently. State child support agencies and MSFIs use FAST Levy to seize financial assets more quickly and efficiently.

Respondents: Multistate Financial Institutions and State Child Support Agencies.

Annual Burden Estimates
Information collection instrument | Total annual number of respondents | Total annual number of responses per respondent | Average annual burden hours per response | Total annual burden hours
Financial Data Match Record Specifications Match File Upload/Download: Portal Users | 263 | 4 | 0.083 | 87.3
Election Form | 13 | 1 | 0.5 | 6.5
FAST-Levy Response Withhold Record Specifications: Financial Institutions | 1 | 1 | 1,716 | 1,716.0
FAST-Levy Request Withhold Record Specifications: State Child Support Agencies | 2 | 1 | 1,610 | 3,220.0

Estimated Total Annual Burden Hours: 5,029.8.

Authority: 42 U.S.C. 652(l); 42 U.S.C. 666(a)(2) and (c)(1)(G)(ii); 42 U.S.C. 666(a)(17)(A); 42 U.S.C. 652(a)(7); and, 45 CFR 303.7(a)(5).

Mary B. Jones,
ACF/OPRE Certifying Officer.

[FR Doc. 2023-24855 Filed 11-9-23; 8:45 am]

BILLING CODE 4184-41-P